SURFACE TRANSPORTATION BOARD

[Docket No. FD 36445]

Stillwater Central Railroad, L.L.C.—Lease Exemption With Interchange Commitment—BNSF Railway Company

Stillwater Central Railroad, L.L.C. (SCR), a Class III rail carrier, has filed a verified notice of exemption under 49 CFR 1150.41 to lease from the BNSF Railway Company (BNSF) and operate two rail line segments: (1) From milepost 549.01 on Line Segment 1003 at Wheatland easterly to milepost 540.65 on Line Segment 7405, immediately west of Shields Blvd.; and (2) from milepost 540.0 on Line Segment 1003 easterly to the end of BNSF ownership at milepost 536.4 on the same segment (including the North Yard) in Oklahoma County, Okla. (the Lines). The Lines total approximately 12.6 route miles.

According to the verified notice, SCR has leased and operated the Lines since 2005.¹ The verified notice states that SCR and BNSF have executed a revised lease agreement to govern SCR's leasehold of the Lines, which will extend the term of the lease until July 31, 2030. SCR states that it will continue to be the operator of the Lines.

¹ See Stillwater Cent. R.R.—Lease & Operation Exemption—Burlington N. & Santa Fe Ry., FD 34610 (STB served Jan. 19, 2005).

According to SCR, the amended lease between SCR and BNSF contains an interchange commitment that affects interchange with carriers other than BNSF.² The affected interchange is with the Union Pacific Railroad Company at Oklahoma City, Okla., on Segment 2. As required under 49 CFR 1150.43(h), SCR provided additional information regarding the interchange commitment.

² A copy of the lease with the interchange commitment was submitted under seal. See 49 CFR 1150.43(h)(1).

SCR has certified that its projected annual revenues as a result of this transaction will not result in SCR's becoming a Class II or Class I rail carrier, but that its projected annual revenues are anticipated to exceed $5 million. Pursuant to 49 CFR 1150.42(e), if a carrier's projected annual revenues will exceed $5 million, it must, at least 60 days before this exemption is to become effective, post a notice of its intent to undertake the proposed transaction at the workplace of the employees on the affected lines, serve a copy of the notice on the national offices of the labor unions with employees on the affected lines, and certify to the Board that it has done so. However, SCR, concurrently with its verified notice of exemption, filed a petition for waiver of the 60-day advance labor notice requirement. SCR's waiver request will be addressed in a separate decision. The Board will establish the effective date of the exemption in its separate decision on the waiver request.

If the notice contains false or misleading information, the exemption is void ab initio. Petitions to revoke the exemption under 49 U.S.C. 10502(d) may be filed at any time. The filing of a petition to revoke will not automatically stay the effectiveness of the exemption. Petitions for stay must be filed no later than May 12, 2021.

All pleadings, referring to Docket No. FD 36445, should be filed with the Surface Transportation Board via e-filing on the Board's website. In addition, one copy of each pleading must be served on SCR's representative: Bradon J. Smith, Fletcher & Sippel LLC, 29 North Wacker Drive, Suite 800, Chicago, IL 60606.

According to SCR, this action is categorically excluded from environmental review under 49 CFR 1105.6(c) and from historic preservation reporting requirements under 49 CFR 1105.8(b).

Board decisions and notices are available at www.stb.gov.

Decided: April 30, 2021.
By the Board, Scott M. Zimmerman, Acting Director, Office of Proceedings.
Jeffrey Herzig,
Clearance Clerk.

[FR Doc. 2021-09505 Filed 5-4-21; 8:45 am]

BILLING CODE 4915-01-P